DEPARTMENT OF COMMERCE

National Oceanic and Atmospheric Administration

RIN 0648-XD503

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will conduct a question and answer session via webinar with NMFS's Marine Recreational Information Program (MRIP).

DATES: The meeting will be held on Friday, October 03, 2014, from 10 a.m. until noon.

ADDRESSES: The meeting will be held via Webinar at this link: http://mafmc.adobeconnect.com/mrip-qa/. When the webinar begins, once attendees click/navigate to this link audio connection details are provided.

Council address: Mid-Atlantic Fishery Management Council, 800 North State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of the meeting is to brief the Council on ongoing MRIP efforts to improve recreational data collection and to provide a forum for Council Members to ask questions regarding MRIP. NMFS MRIP staff will be on the webinar to respond to questions. There will also be an opportunity for questions and comments from any public attendees. The meeting will be informational in nature.

Special Accommodations

This meeting is accessible to people with disabilities. Requests for sign language interpretation or other auxiliary aid should be directed to M. Jan Saunders, (302) 526-5251, at least 5 days prior to the meeting date.

Dated: September 12, 2014.
Tracey L. Thompson,
Acting Deputy Director, Office of Sustainable Fisheries, National Marine Fisheries Service.

[FR Doc. 2014-22200 Filed 9-17-14; 8:45 am]

BILLING CODE 3510-22-P